NUCLEAR REGULATORY COMMISSION

[Docket Nos. 50-275 and 50-323; NRC-2024-0148]

Pacific Gas & Electric Company; Diablo Canyon Nuclear Power Plant, Units 1 and 2; Petition

AGENCY: Nuclear Regulatory Commission.

ACTION: 10 CFR 2.206 request; supplement.

SUMMARY: The U.S. Nuclear Regulatory Commission (NRC) is giving notice that by petition dated March 4, 2024, as supplemented on June 7, 2024, and October 30, 2024, San Luis Obispo Mothers for Peace, Friends of the Earth, and Environmental Working Group (the petitioners) requested that the NRC exercise its supervisory authority to order the immediate closure of Diablo Canyon Nuclear Power Plant, Units 1 and 2 (Diablo Canyon) due to “the unacceptable risk of a seismically induced severe accident.” The Commission referred the request to the enforcement petition process under NRC regulations. Details regarding NRC review of the petitioners' October 30, 2024, supplement is included in the Supplementary Information section of this document.

DATES: December 10, 2024.

ADDRESSES: Please refer to Docket ID NRC-2024-0148 when contacting the NRC about the availability of information regarding this document. You may obtain publicly available information related to this document using any of the following methods:

• Federal Rulemaking Website: Go to https://www.regulations.gov and search for Docket ID NRC-2024-0148. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section of this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Perry Buckberg, Office of Nuclear Reactor Regulation, U.S. Nuclear Regulatory Commission, Washington DC 20555-0001; telephone: 301-415-1383; email: Perry.Buckberg@nrc.gov.

I. Supplementary Information

On March 4, 2024, the petitioners filed a petition requesting that the NRC exercise its supervisory authority to order the immediate closure of Diablo Canyon due to “the unacceptable risk of a seismically induced severe accident.” An order was issued on March 12, 2024, referring the request to the enforcement petition process under section 2.206 of title 10 of the Code of Federal Regulations (10 CFR), “Requests for action under this subpart.”

On August 27, 2024, the NRC staff issued an Acknowledgement Letter that summarized the evaluation activities of the March 4, 2024, petition, as supplemented on June 7, 2024, and described that the Petition Review Board (PRB) had accepted four specific concerns for further review.

Consistent with Section IV.B “Schedule,” of the handbook for NRC Management Directive (MD) 8.11, “Review Process for 10 CFR 2.206 Petitions,” and its associated Directive Handbook 8.11, the PRB intended to issue the proposed director's decision for comment within 120 days after issuing the August 27, 2024, acknowledgment letter. On October 24, 2024, Pacific Gas & Electric Company (PG&E) provided a voluntarily submittal to the NRC related to the PRB review of the petition. On October 31, 2024, the petitioners submitted a supplement to the petition. The PRB has considered information in the new supplement and intends to address the following supplemental concerns in the proposed director's decision:

1. PG&E's 2015 and 2024 seismic source characterizations omitted modern deformation modeling and failed to use globally-calibrated strainrate-to-seismicity conversions, that would have prevented their serious underestimates.

2. Additional justification supporting the use of the Noto Peninsula earthquake as a model characteristic thrust earthquake for the Irish Hills.

Consistent with Section III.I.6, “Supplements to the Petition,” of the handbook for MD 8.11, the PRB now intends to issue the proposed director's decision for comment within 120 days of the issuance of the supplemental acknowledgement letter.

II. Availability of Documents

The documents identified in the following table are available to interested persons through ADAMS, as indicated.

Document description | ADAMS accession No.
Petition submitted by San Luis Obispo Mothers for Peace, Friends of the Earth, and Environmental Working Group, dated March 4, 2024 | ML24067A066.
NRC SECY Order referring the petition to the 10 CFR 2.206 process, dated March 12, 2024 | ML24072A529.
Petition Supplement, dated June 7, 2024 | ML24162A079.
NRC Management Directive 8.11, “Review Process for 10 CFR 2.206 Petitions,” dated March 1, 2019 | ML18296A043.
NRC Acknowledgement Letter dated August 27, 2024 | ML24205A066.
PG&E voluntarily submittal dated October 24, 2024 | ML24298A234.
Petition Supplement, dated October 30, 2024 | ML24305A187.

Dated: December 5, 2024.
For the Nuclear Regulatory Commission.
Michael X. Franovich,
Acting Deputy Director, Office of Nuclear Reactor Regulation.

[FR Doc. 2024-29066 Filed 12-10-24; 8:45 am]

BILLING CODE 7590-01-P